DEPARTMENT OF TRANSPORTATION

Federal Aviation Administration

14 CFR Part 71

[Docket No. FAA-2017-1144; Airspace Docket No. 16-AGL-30]

RIN 2120-AA66

Modification of Air Traffic Service (ATS) Routes in the Vicinity of Richmond, IN

AGENCY: Federal Aviation Administration (FAA), DOT.

ACTION: Final rule, correction.

SUMMARY: This action corrects a final rule published in the Federal Register of May 29, 2018, that amends five VHF omnidirectional range (VOR) Federal airways (V-12, V-214, V340, V-467, and V517) and one low altitude area navigation (RNAV) route (T-213). This action removes V-467 as the FAA inadvertently listed the route as being amended when, in fact, it already has been removed in a previous rulemaking.

DATES: Effective date 0901 UTC September 13, 2018. The Director of the Federal Register approves this incorporation by reference action under Title 1, Code of Federal Regulations, part 51, subject to the annual revision of FAA Order 7400.11 and publication of conforming amendments.

FOR FURTHER INFORMATION CONTACT: Colby Abbott, Airspace Policy Group, Office of Airspace Services, Federal Aviation Administration, 800 Independence Avenue SW, Washington, DC 20591; telephone (202) 267-8783.

SUPPLEMENTARY INFORMATION:

History

The FAA published a final rule in the Federal Register (83 FR 24403; May 29, 2018) for Docket No. FAA-2017-1144 amending VOR Federal airways V-12, V-214, V-340, V-467, and V-517, and low altitude RNAV route T-213. Subsequent to publication, the FAA identified that one VOR Federal airway, V-467, already has been removed in a previous rulemaking (83 FR 13404; March 29, 2018). This action removes reference to V-467 in the preamble and the regulatory text.

Correction to Final Rule

Accordingly, pursuant to the authority delegated to me, Modification of Air Traffic Service (ATS) Routes in the Vicinity of Richmond, IN, published in the Federal Register of May 29, 2018 (83 FR 24403), FR Doc. 2018-11327, is corrected as follows:

§ 71.1 [Amended]

On page 24403, column 1, line 15; column 2, line 32; and column 3, line 11, remove the text “V-467.” On page 24403, column 3, lines 49 thru 56, remove the text that reads “V-467: V-467 extends between the Richmond, IN, VORTAC and the Detroit, MI, VOR/DME. This rule removes the airway segment between the Richmond, IN, VORTAC and the Waterville, OH, VOR/DME. The unaffected portion of the existing airway remains as charted.”

On page 22404, column 3, lines 39 and 40, under Paragraph 6010(a) Domestic VOR Federal Airways, remove the text that reads:

“V-467 [Amended]

From Waterville, OH; to Detroit, MI.”

Issued in Washington, DC, on June 20, 2018.
Rodger A. Dean Jr.,
Manager, Airspace Policy Group.

[FR Doc. 2018-13739 Filed 6-26-18; 8:45 am]

BILLING CODE 4910-13-P